DEPARTMENT OF HOMELAND SECURITY

[Docket No. DHS-2012-0053]

Homeland Security Science and Technology Advisory Committee (HSSTAC)

AGENCY: Science and Technology Directorate, DHS.

ACTION: Committee Management; Notice of Federal Advisory Committee Meeting.

SUMMARY: The Homeland Security Science and Technology Advisory Committee (HSSTAC) will meet on September 27-28, 2012 in Washington, DC The meeting will be open to the public.

DATES: The HSSTAC will meet Thursday, September 27, 2012, 9 a.m.-4:30 p.m. and Friday, September 28, 2012, 9 a.m.-3:30 p.m. The meeting may close early if the committee has completed its business.

ADDRESSES: The meeting will be held at the Department of Homeland Security (DHS), Science and Technology Directorate, 1120 Vermont Avenue NW. (Room 5-212), Washington DC.

All visitors must pre-register in order to gain entrance to the building. To register, please contact the person listed under FOR FURTHER INFORMATION CONTACT, below. Alternatively, you may register via this Web site: https://www.signup4.net/Public/ap.aspx?EID=20124214E. Please provide your name, citizenship, organization (if any), title (if any), email address (if any), and telephone number.

For information on facilities or services for individuals with disabilities or to request special assistance at the meeting, contact the person listed under FOR FURTHER INFORMATION CONTACT, below.

The materials that are provided to committee members will also be provided to the public. Materials that are sent to committee members in advance will be posted on the public Web site below at the same time. Materials that are provided to committee members at the meeting will be made available to any members of the public present at the same time, and also posted to the public Web site below as soon as possible after the meeting. Check this Web site after Sept. 12: http://www.dhs.gov/homeland-security-science-and-technology-advisory-committee-hsstac.

To facilitate public participation, we invite public comment on the issues to be considered by the committee as listed in the SUPPLEMENTARY INFORMATION below. Comments may be submitted orally or in writing, or both. If submitting in writing, please include the docket number (DHS-2012-0053) and submit by one of these methods before September 25:

• Federal eRulemaking Portal: http://www.regulations.gov. Follow the instructions for submitting comments.

• Email: mary.hanson@hq.dhs.gov. Include the docket number in the subject line of the message.

• Fax: 202-254-6176.

• Mail: Mary Hanson, HSSTAC Executive Director, Science and Technology Directorate, Department of Homeland Security, 245 Murray Lane, Bldg. 410, Washington, DC 20528.

Instructions: All submissions received must include the words “Department of Homeland Security” and the docket number. Comments received will be posted without alteration at http://www.regulations.gov, including any personal information provided.

Docket: For access to the docket to read background documents or comments received by the HSSTAC, go to http://www.regulations.gov.

A period is allotted for oral public comment on September 28 after DHS officials provide briefings on each issue listed below and prior to the members making their recommendations. Speakers are asked to pre-register as such, and to limit their comments to three minutes or less. Please note that the public comment period may end before the time indicated, following the last call for comments. To register as a speaker, contact the person listed below.

FOR FURTHER INFORMATION CONTACT: Mary Hanson, HSSTAC Executive Director, Science and Technology Directorate, Department of Homeland Security, 245 Murray Lane, Bldg. 410, Washington, DC 20528, 202-254-5866(O), 202-254-5823 (F), mary.hanson@hq.dhs.gov.

SUPPLEMENTARY INFORMATION: Notice of this meeting is given under the Federal Advisory Committee Act (FACA), 5 U.S.C. App. (Pub. L. 92-463). The HSSTAC was established and operates in accordance with the provisions of the FACA. The committee addresses areas of interest and importance to the Under Secretary for Science and Technology, such as new developments in systems engineering, cyber-security, knowledge management and how best to leverage related technologies funded by other federal agencies and by the private sector. It also advises the Under Secretary on policies, management processes, and organizational constructs as needed.

Agenda: Because this committee was recently reconstituted under a new charter, this first meeting will include administrative briefings and orientation. On the first day, members will receive introductory and administrative briefings from DHS officials about the Department of Homeland Security. On the second day, members will focus on the following issues: How Technology Can Address Homeland Security Challenges, Accelerating Innovation Through Systems Analysis, and Leveraging Industry for Impact. Members will first receive briefings and “problem statements” on these issues from Department officials, discuss and deliberate various approaches and responses, hear comments from the public, then recommend next steps to address the issue. At the end of the meeting and following input from the committee, Department officials will prioritize the issues discussed and provide direction to the committee, including the possible establishment of subcommittees to address the highest priorities.

Dated: September 5, 2012.
Mary Hanson,
Executive Director, Homeland Security Science and Technology Advisory Committee.

[FR Doc. 2012-22545 Filed 9-12-12; 8:45 am]

BILLING CODE 9110-9F-P